DEPARTMENT OF HEALTH AND HUMAN SERVICES

Health Resources and Services Administration

Agency Information Collection Activities: Proposed Collection: Public Comment Request; Information Collection Request Title: Children's Graduate Medical Education Quality Bonus System (QBS) Initiative Response Form, OMB No. 0906-xxxx-New

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than December 24, 2018.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Quality Bonus System Initiative Response Form OMB No. 0906-xxxx [New].

Abstract: The Children's Hospitals Graduate Medical Education (CHGME) Payment Program provides federal funds to the nation's freestanding children's hospitals to help them maintain their graduate medical education (GME) programs that train resident physicians and dentists. CHGME Support Reauthorization Act of 2013 states that the Secretary may establish a Quality Bonus System (QBS), whereby the Secretary distributes bonus payments to hospitals participating in the CHGME program that meet standards specified by the Secretary. In order to qualify for the QBS payment in Fiscal Year (FY) 2019, CHGME award recipients must submit documentation as an attachment in the FY 2019 reconciliation application released in April 2019, describing the hospital's initiatives, resident curriculum, and direct resident involvement in the following areas:

a. Integrated care models (e.g., integrated behavioral and mental health, care coordination across providers and settings);

b. Telehealth and/or Health Information Technology;

c. Population health;

d. Social determinants of health; and

e. Additional initiatives to improve access and quality of care to rural and/or underserved communities.

As specified in the CHGME statute, the QBS payment shall be remitted to qualified hospitals participating in the CHGME program that meet standards set forth by the Secretary of HHS. To demonstrate the fulfillment of such standards, it will be necessary for applicants to complete the QBS Response Initiative form and submit it as an attachment to the FY 2019 reconciliation application released in April of 2019. This form will be used to gather information relating to the hospitals' engagement in quality initiatives.

Likely Respondents: CHGME Program award recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
QBS Response Initiative Form | 58 | 1 | 58 | 32.41 | 1,880
Total | 58 |  | 58 |  | 1,880

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy P. McNulty,
Acting Director, Division of the Executive Secretariat.

[FR Doc. 2018-23133 Filed 10-22-18; 8:45 am]

BILLING CODE 4165-15-P